DEPARTMENT OF HOMELAND SECURITY

Coast Guard

[USCG-2007-28217]

Relocation of DOT's Docket Operations Facility and Equipment and Temporary Docket Office Closure for the United States Coast Guard Electronic Public Dockets

AGENCY: Coast Guard, DHS.

ACTION: Notice.

SUMMARY: The Coast Guard announces the relocation and service disruption of the Coast Guard's electronic public dockets. The U.S. Department of Transportation (DOT) Docket Operations facility, which manages the Document Management System (DMS) containing the electronic public dockets for the U.S. Coast Guard, is relocating to a new building. This notice also provides the information related to two open Coast Guard rulemaking dockets impacted by this relocation.

DATES: Docket Management Facility will be closed May 25 until May 29, 2007. The Docket Management System will be unavailable from June 13 until 17, 2007.

ADDRESSES: You may submit comments identified by Coast Guard docket numbers USCG-2007-27373 and USCG-2007-27761 to the Docket Management Facility at the U.S. Department of Transportation. Two different locations are listed under the mail and delivery options below because the Document Management Facility is moving May 30, 2007. To avoid duplication, please use only one of the following methods:

(1) Web Site: http://dms.dot.gov.

(2) Mail:

• Address mail to be delivered before May 30, 2007, as follows: Docket Management Facility, U.S. Department of Transportation, 400 Seventh Street SW., Washington, DC 20590-0001.

• Address mail to be delivered on or after May 30, 2007, as follows: Docket Management Facility, U.S. Department of Transportation, 1200 New Jersey Avenue SE., West Building Ground Floor, Room W12-140, Washington, DC 20590.

(3) Fax: 202-493-2251.

(4) Delivery:

• Before May 30, 2007, deliver comments to: Room PL-401 on the Plaza level of the Nassif Building, 400 Seventh Street SW., Washington, DC 20590.

• On or after May 30, 2007, deliver comments to: Room W12-140 on the Ground Floor of the West Building, 1200 New Jersey Avenue SE., Washington, DC 20590.

At either location, deliveries may be made between 9 a.m. and 5 p.m., Monday through Friday, except Federal holidays. The telephone number is 202-366-9329.

(5) Federal eRulemaking Portal: http://www.regulations.gov.

FOR FURTHER INFORMATION CONTACT: If you have questions on this notice, call Amy Bunk, Attorney-Advisor, Coast Guard, telephone 202-372-3864. If you have questions on viewing or submitting material to the docket, contact Renee V. Wright, Program Manager, Docket Operations, Office of Information Services, Office of the Assistant Secretary for Administration, Office of the Secretary, 400 7th Street, SW., Washington, DC 20590 until May 24, 2007, and at M-30, West Building Ground Floor, Room W12-140, 1200 New Jersey Avenue, SE. after that; telephone number: 202-366-9826; e-mail address: renee.wright@dot.gov.

SUPPLEMENTARY INFORMATION:

Background and Purpose

The notice announces the relocation and service disruption of the Coast Guard's electronic public dockets. The Coast Guard's electronic dockets are currently maintained by the Department of Transportation (DOT) Docket Operations facility, which manages the Document Management System (DMS). This notice also provides the information related to two open Coast Guard rulemaking dockets impacted by this relocation. The DOT Docket Operations facility is moving to 1200 New Jersey Avenue, SE., Washington, DC 20590 and will be located on the West Building Ground Floor, Room W12-140. Hours for the new facility will continue to be 9 a.m. to 5 p.m., Monday through Friday, excluding Federal holidays. The Docket Operations telephone number will continue to be (202) 366-9826.

1. To prepare for the relocation to the new facility, the Docket Operations facility will be closed to the public on Friday, May 25, 2007, through Tuesday, May 29, 2007. The office will reopen to the public on Wednesday, May 30, 2007 at the new facility.

2. To move the computers that host the electronic dockets, the DMS will be unavailable for use from Wednesday, June 13, 2007, through Sunday, June 17, 2007. The electronic docket will be available to users on June 18, 2007.

For more information on how to submit documents to Coast Guard electronic dockets is located in the ADDRESSES section of this notice.

As of the date of signature of this document, there are two Coast Guard dockets open for public comment on the DMS system that will be affected by this relocation. They are:

1. Notice of Proposed Rulemaking: Docket number USCG-2007-27373 entitled “Regattas and Marine Parades; Great Lakes Annual Marine Events,” comments due on or before June 5, 2007.

2. Interim Rule: Docket number USCG-2007-27761 entitled “Large Passenger Vessel Crew Requirements,” comments due on or before July 23, 2007.

Dated: May 11, 2007.
Stefan G. Venckus,
Chief, Office of Regulations and Administrative Law, United States Coast Guard.

[FR Doc. E7-9485 Filed 5-16-07; 8:45 am]

BILLING CODE 4910-15-P